DEPARTMENT OF HOMELAND SECURITY

Coast Guard

[Docket No. COTP Houston-Galveston 07-022]

Area Maritime Security Committee, Houston-Galveston, TX; Vacancies

AGENCY: Coast Guard, DHS.

ACTION: Request for applications.

SUMMARY: The Coast Guard seeks applications for membership in the Area Maritime Security Committee, Houston-Galveston, Texas. The Committee assists the Captain of the Port, Houston-Galveston, Texas in developing, reviewing, and updating the Area Maritime Security Plan for their area of responsibility.

DATES: Requests for membership should reach the Captain of the Port, Houston-Galveston on or before December 21, 2007.

ADDRESSES: Submit applications for membership to the Captain of the Port, Houston-Galveston, AMSC Executive Administrator, 9640 Clinton Drive, Houston TX 77029 or by e-mail to John.D.Walker@uscg.mil.

FOR FURTHER INFORMATION CONTACT: For questions about the Houston-Galveston AMS Committee or its charter, contact Mr. John Walker, AMSC Executive Administrator, at (713) 671-5118.

SUPPLEMENTARY INFORMATION:

The Committee

The Area Maritime Security Committee, Houston-Galveston, Texas (the Committee), is established under, and governed by, 33 CFR part 103, subpart C. The functions of the Committee include, but are not limited to, the following:

(1) Identifying critical port infrastructure and operations.

(2) Identifying risks (i.e., threats, vulnerabilities, and consequences).

(3) Determining strategies and implementation methods for mitigation.

(4) Developing and describing the process for continuously evaluating overall port security by considering consequences and vulnerabilities, how they may change over time, and what additional mitigation strategies can be applied.

(5) Advising and assisting the Captain of the Port in developing, reviewing, and updating the Area Maritime Security Plan under 33 CFR part 103, subpart E.

The Houston-Galveston AMS Committee meets quarterly. Subcommittees, work groups and task forces convene between meetings of the parent committee. AMS Committee meeting location is currently at the Port of Houston Authority, 111 East Loop North, Houston, TX at 9 a.m.

Positions Available on the Committee

There are twenty (27) vacancies on the Committee. Members may be selected from:

(1) The Federal, Territorial, or Tribal government;

(2) The State government and political subdivisions of the State;

(3) Local public safety, crisis management, and emergency response agencies;

(4) Law enforcement and security organizations;

(5) Maritime industry, including labor;

(6) Other port stakeholders having a special competence in maritime security; and

(7) Port stakeholders affected by security practices and policies.

In support of the Coast Guard's policy on gender and ethnic diversity, we encourage qualified women and members of minority groups to apply.

Qualification of Members

Members should possess at least five (5) years of experience related to maritime or port security operations. Applicants may be required to pass an appropriate security background check before appointment to the Committee.

The terms of office for each vacancy is five (5) years. However, a member may serve one additional term of office. Members are not salaried or otherwise compensated for their service on the Committee.

The Houston-Galveston AMS Committee is currently requesting applications to fill the following vacancies:

(1) Channel Industries Mutual Aid—Primary and Alternate;

(2) Cruise Lines—Primary and Alternate;

(3) Educational Institutions—Alternate;

(4) Fleets—Alternate;

(5) Freeport Pilots Assoc—Alternate;

(6) Freeport Port Security—Primary and Alternate;

(7) Galveston County—Alternate;

(8) Galveston/Texas City Pilots Assoc—Primary and Alternate;

(9) Greater Houston Port Bureau—Primary;

(10) Gulf Intracoastal Canal Assoc—Alternate;

(11) Harbor Tugs—Alternate;

(12) Houston Port Police—Primary and Alternate;

(13) Offshore Carriers/Area—Alternate;

(14) Offshore Suppliers—Alternate;

(15) Port Rail—Alternate;

(16) Recreational Boaters—Alternate;

(17) Shipping Agents—Primary and Alternate;

(18) Texas City Port Police—Primary and Alternate;

(19) Trucking Industry—Alternate; and

(20) Waterborne Venders—Alternate.

Format of Applications

Applications for membership may be in any format. However, because members must demonstrate an interest in the security of the area covered by the Committee, we particularly encourage the submission of information highlighting experience in maritime or security matters.

Authority: Section 102 of the Maritime Transportation Security Act of 2002 (Pub. L. 107-295)(the Act) authorizes the Secretary of the Department in which the Coast Guard is operating to establish Area Maritime Security Committees for any port area of the United States. See 33 U.S.C. 1226; 46 U.S.C. 70112(a)(2); 33 CFR 103.205; Department of Homeland Security Delegation No. 0170.1. The Act exempts Area Maritime Security Committees from the Federal Advisory Committee Act (FACA), 5 U.S.C. App. (Pub. L. 92-463).

Dated: November 6, 2007.
William J. Diehl,
Captain, U.S. Coast Guard, Federal Maritime Security Coordinator/Captain of the Port, Houston-Galveston.

[FR Doc. E7-22787 Filed 11-20-07; 8:45 am]

BILLING CODE 4910-15-P